DEPARTMENT OF THE INTERIOR

National Park Service

[NPS-WASO-NRNHL-DTS#-32414; PPWOCRADI0, PCU00RP14.R50000]

National Register of Historic Places; Notification of Pending Nominations and Related Actions

AGENCY: National Park Service, Interior.

ACTION: Notice.

SUMMARY: The National Park Service is soliciting electronic comments on the significance of properties nominated before July 31, 2021, for listing or related actions in the National Register of Historic Places.

DATES: Comments should be submitted electronically by August 26, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 31, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Pima County

American Smelting and Refining Company Southwestern Department Headquarters, 1150 North 7th Ave., Tucson, SG100006883

DELAWARE

New Castle County

African Union Church and Cemetery of Iron Hill, 1578 Whittaker Rd., Newark vicinity, SG100006887

MISSISSIPPI

Hancock County

William and Mary McGee House, 16634 Whites Rd., Pearlington, SG100006893

Neshoba County

Booker T. Washington High School, 234 Carver Ave., Philadelphia, SG100006878

MISSOURI

Jackson County

Rector House, 2008 East 12th St., Kansas City, SG100006890

Mason Building, 1110 Grand Blvd., Kansas City, SG100006891

PENNSYLVANIA

Erie County

Mayer Building, 1501-1509 State St., Erie, SG100006881

Philadelphia County

Bellevue Worsted Mills, 5115-5139 Belfield Ave., Philadelphia, SG100006880

SOUTH CAROLINA

Aiken County

Aiken County Hospital, 828 Richland Ave. West, Aiken, SG100006888

Florence County

Heiden, Philip C., House, 116 North Blanding St., Lake City, SG100006885

Richland County

Holman's Barber Shop, (Segregation in Columbia, South Carolina MPS), 2128 Gervais St., Columbia, MP100006884

TEXAS

Cameron County

Essey, Lillian and George K. Aziz, House, 1205 West Elizabeth St., Brownsville, SG100006889

VERMONT

Windham County

Brookline Baptist Church, (Religious Buildings, Sites and Structures in Vermont MPS), 632 Grassy Brook Rd., Brookline, MP100006892

WYOMING

Johnson County

Wold Rock Art District, Address Restricted, Barnum vicinity, SG100006877

Additional documentation has been received for the following resources:

ARIZONA

Maricopa County

Willo Historic District (Additional Documentation), Roughly bounded by Central Ave., McDowell Rd., 7th Ave., and Thomas Rd., Phoenix, AD90002099

VERMONT

Washington County

Roxbury Fish Hatchery (Additional Documentation), (Fish Culture Resources of Vermont MPS), West side VT 12A, about 1.0 mi. south of Roxbury, Roxbury vicinity, AD94000177

Nomination submitted by Federal Preservation Officer:

The State Historic Preservation Officer reviewed the following nomination and responded to the Federal Preservation Officer within 45 days of receipt of the nomination and supports listing the properties in the National Register of Historic Places.

OKLAHOMA

Oklahoma County

Federal Building and United States Court House, 200 NW 4th St., Oklahoma City, SG100006876

Authority: Section 60.13 of 36 CFR part 60

Dated: August 3, 2021.
Sherry A. Frear,
Chief, National Register of Historic Places/National Historic Landmarks Program.

[FR Doc. 2021-17070 Filed 8-10-21; 8:45 am]

BILLING CODE 4312-52-P